DEPARTMENT OF JUSTICE

Amended Notice of Lodging of Consent Decree Pursuant to the Clean Water Act

On April 24, 2012, at Federal Register/Vol. 77, No. 79, pages 24515-24516, notice was given that on April 16, 2012 a proposed Consent Decree (“Decree”) in United States of America and the State of Tennessee v. the City of Memphis (“City”), Civil Action No. 2:10-CV-02083-SHM-dkv was lodged with the United States District Court for the Western District of Tennessee. The Decree represents a settlement of claims against the City of Memphis under Section 301, 309, and 402 of the Clean Water Act, 33 U.S.C. 1311, 1319, and 1342; and Tenn. Code Ann. Sections 69-3-108(b)(6), 114 and 115; and Sections 101 through 138 of the Tennessee Water Quality Control Act (“TWQCA”).

The April 24, 2012 Notice did not contain the public comment email address. Comments should be addressed to the Assistant Attorney General, Environment and Natural Resources Division, P.O. Box 7611, U.S. Department of Justice, Washington, DC 20044-7611, and either mailed to that address or emailed to pubcomment-ees.enrd@usdoj.gov and should refer to United States of America and State of Tennessee v. City of Memphis, Civil Action No. 2:10-CV-02083-SHM-dkv, D.J. Ref. 90-5-1-1-09720.

Henry Friedman,
Assistant Section Chief, Environmental Enforcement Section, Environment and Natural Resources Division.

[FR Doc. 2012-10387 Filed 4-30-12; 8:45 am]

BILLING CODE 4410-15-P